DEPARTMENT OF COMMERCE

International Trade Administration

[A-570-806]

Notice of Extension of Time Limit for Preliminary Results of Antidumping New Shipper Review: Natural Bristle Paintbrushes and Brush Heads From the People's Republic of China

EFFECTIVE DATE: November 6, 2001.

FOR FURTHER INFORMATION CONTACT: Sally Gannon Office of AD/CVD Enforcement VII, Import Administration, International Trade Administration, U.S. Department of Commerce, 14th Street and Constitution Avenue, NW., Washington DC 20230; telephone: (202) 482-0162.

SUPPLEMENTARY INFORMATION:

The Applicable Statute

Unless otherwise indicated, all citations to the statute are references to the provisions effective January 1, 1995, the effective date of the amendments made to the Tariff Act of 1930 (the Act) by the Uruguay Round Agreements Act. In addition, unless otherwise indicated, all citations to the Department's regulations are to the current regulations, codified at 19 CFR part 351 (2000).

Background

In accordance with 19 CFR 351.213(b)(2), the Department received a timely request from petitioner, Paint Applicator Division of the American Brush Manufacturers Association (Paint Applicator Division), that we conduct an administrative review of the sales of Hebei Founder Import & Export Company (Founder) and Hunan Provincial Native Products Import & Export Corp. (Hunan). On March 22, 2001, the Department initiated an administrative review of the antidumping duty order on natural bristle paintbrushes and paintbrush heads for the period of review (POR) of February 1, 2000 through January 31, 2001 for Founder and Hunan. On September 6, 2001, the Department rescinded the administrative review with respect to Founder because it did not sell, ship, or enter the subject merchandise during the POR. See Natural Bristle Paintbrushes and Brush Heads from the People's Republic of China: Notice of Rescission in Part of Antidumping Duty Administrative Review, 66 FR 47450 (September 12, 2001).

Extension of Time Limit for Preliminary Results

Pursuant to section 751(a)(3)(A) of the Act, the Department may extend the deadline for completion of the preliminary results of a review if it determines that it is not practicable to complete the preliminary results within the statutory time limit of 245 days from the date on which the review was initiated. The Department has determined that it is not practicable to complete the preliminary results of this review for Hunan within the time limits mandated by section 751(a)(3)(A) of the Act and section 351.213(h)(1) of the Department's regulations because certain complex issues need to be examined, including the terms of Hunan's business relationship with its supplier and whether Hunan's single sale during the POR was a sample sale.

Therefore, in accordance with these sections, the Department is extending the time limits for the preliminary results by 120 days, until no later than February 28, 2002. The final results continue to be due 120 days after the publication of the preliminary results.

Dated: October 25, 2001.
Edward C. Yang,
Acting Deputy Assistant Secretary for Import Administration.

[FR Doc. 01-27853 Filed 11-5-01; 8:45 am]

BILLING CODE 3510-DS-P